DEPARTMENT OF ENERGY

Federal Energy Regulatory Commission

Combined Notice of Filings #1

December 11, 2007.

Take notice that the Commission received the following open access transmission tariff filings:

Docket Numbers: OA07-32-002.

Applicants: Entergy Services Inc.

Description: Entergy Operating Companies informs the Commission that it has complied with Order 890's requirement concerning the elevation of pre-confirmed transmission service request.

Filed Date: 11/30/2007.

Accession Number: 20071206-0120.

Comment Date: 5 p.m. Eastern Time on Friday, December 21, 2007.

Docket Numbers: OA08-18-000.

Applicants: Aquila, Inc.

Description: Aquila, Inc.'s Order No. 890 Attachment K (Planning) Compliance Filing.

Filed Date: 12/06/2007.

Accession Number: 20071206-5092.

Comment Date: 5 p.m. Eastern Time on Thursday, December 27, 2007.

Docket Numbers: OA08-19-000.

Applicants: Ohio Valley Electric Corporation.

Description: Attachment K Compliance Filing Order No. 890 OATT of Ohio Valley Electric Corporation.

Filed Date: 12/07/2007.

Accession Number: 20071207-5011.

Comment Date: 5 p.m. Eastern Time on Friday, December 28, 2007.

Docket Numbers: OA08-20-000.

Applicants: Tampa Electric Company.

Description: Attachment K Compliance Filing of Tampa Electric Company.

Filed Date: 12/07/2007.

Accession Number: 20071207-5016.

Comment Date: 5 p.m. Eastern Time on Friday, December 28, 2007.

Docket Numbers: OA08-21-000.

Applicants: Maine Public Service Company.

Description: Order No. 890 OATT Compliance Filing—Transmission Planning Attachment—of Maine Public Service Company.

Filed Date: 12/07/2007.

Accession Number: 20071207-5020.

Comment Date: 5 p.m. Eastern Time on Friday, December 28, 2007.

Docket Numbers: OA08-22-000.

Applicants: Florida Power Corporation.

Description: Order No. 890 compliance filing of Florida Power Corporation d/b/a Progress Energy Florida, Inc.

Filed Date: 12/07/2007.

Accession Number: 20071207-5038.

Comment Date: 5 p.m. Eastern Time on Friday, December 28, 2007.

Docket Numbers: OA08-23-000.

Applicants: Idaho Power Company.

Description: Order No. 890 OATT Attachment K Compliance Filing of Idaho Power Company.

Filed Date: 12/07/2007.

Accession Number: 20071207-5041.

Comment Date: 5 p.m. Eastern Time on Friday, December 28, 2007.

Docket Numbers: OA08-24-000.

Applicants: Alcoa Power Generating Inc.—Yadkin.

Description: Order No. 890 Compliance Filing of Alcoa Power Generating Inc. Yadkin Division.

Filed Date: 12/07/2007.

Accession Number: 20071207-5052.

Comment Date: 5 p.m. Eastern Time on Friday, December 28, 2007.

Docket Numbers: OA08-25-000.

Applicants: Avista Corporation.

Description: Avista Corporation Order 890 Compliance filing of Attachment K.

Filed Date: 12/07/2007.

Accession Number: 20071207-5056.

Comment Date: 5 p.m. Eastern Time on Friday, December 28, 2007.

Docket Numbers: OA08-26-000.

Applicants: Puget Sound Energy, Inc.

Description: Attachment K Compliance Filing of Puget Sound Energy, Inc.

Filed Date: 12/07/2007.

Accession Number: 20071207-5057.

Comment Date: 5 p.m. Eastern Time on Friday, December 28, 2007.

Docket Numbers: OA08-27-000.

Applicants: Kentucky Utilities Company, E.ON U.S. LLC, Louisville Gas & Electric Company.

Description: Order No. 890 Attachment K of E.ON U.S. LLC, et al.

Filed Date: 12/07/2007.

Accession Number: 20071207-5059.

Comment Date: 5 p.m. Eastern Time on Friday, December 28, 2007.

Docket Numbers: OA08-28-000.

Applicants: Deseret Generation & Transmission Co-op.

Description: Order No. 890 OATT—Attachment K of Deseret Generation & Transmission Co-operative, Inc.

Filed Date: 12/07/2007.

Accession Number: 20071207-5061.

Comment Date: 5 p.m. Eastern Time on Friday, December 28, 2007.

Docket Numbers: OA08-29-000.

Applicants: Florida Power & Light Company.

Description: Attachment K Compliance Filing of Florida Power & Light Company.

Filed Date: 12/07/2007.

Accession Number: 20071207-5063.

Comment Date: 5 p.m. Eastern Time on Friday, December 28, 2007.

Docket Numbers: OA08-30-000.

Applicants: El Paso Electric Company.

Description: El Paso Electric Company's Attachment K Compliance Filing.

Filed Date: 12/07/2007.

Accession Number: 20071207-5067.

Comment Date: 5 p.m. Eastern Time on Friday, December 28, 2007.

Docket Numbers: OA08-31-000.

Applicants: NorthWestern Energy, a division.

Description: Order No. 890 OATT, NorthWestern Energy, a division of NorthWestern Corporation, Attachment K Compliance Filing.

Filed Date: 12/07/2007.

Accession Number: 20071207-5096.

Comment Date: 5 p.m. Eastern Time on Friday, December 28, 2007.

Docket Numbers: OA08-32-000.

Applicants: PJM Interconnection, L.L.C.

Description: Order No. 890 OATT of PJM Interconnection, L.L.C.

Filed Date: 12/07/2007.

Accession Number: 20071207-5066.

Comment Date: 5 p.m. Eastern Time on Friday, December 28, 2007.

Docket Numbers: OA08-33-000.

Applicants: Arizona Public Service Company.

Description: Attachment K Compliance Filing APS Transmission Planning Process.

Filed Date: 12/07/2007.

Accession Number: 20071207-5110.

Comment Date: 5 p.m. Eastern Time on Friday, December 28, 2007.

Docket Numbers: OA08-34-000.

Applicants: Public Service Company of New Mexico.

Description: Order No. 890 OATT Attachment K Compliance Filing of Public Service Company of New Mexico.

Filed Date: 12/07/2007.

Accession Number: 20071207-5070.

Comment Date: 5 p.m. Eastern Time on Friday, December 28, 2007.

Docket Numbers: OA08-35-000.

Applicants: Xcel Energy Services Inc.

Description: Order No. 890 OATT of Xcel Energy Services Inc.

Filed Date: 12/07/2007.

Accession Number: 20071207-5084.

Comment Date: 5 p.m. Eastern Time on Friday, December 28, 2007.

Docket Numbers: OA08-36-000.

Applicants: Cleco Power LLC.

Description: Attachment K Compliance Filing of Cleco Power LLC.

Filed Date: 12/07/2007.

Accession Number: 20071207-5085.

Comment Date: 5 p.m. Eastern Time on Friday, December 28, 2007.

Docket Numbers: OA08-37-000.

Applicants: Southern Company.

Description: Southern Company submits Attachment K to its OATT in compliance with Order No. 890.

Filed Date: 12/07/2007.

Accession Number: 20071207-5086.

Comment Date: 5 p.m. Eastern Time on Friday, December 28, 2007.

Docket Numbers: OA08-38-000.

Applicants: Sierra Pacific Resources Operating Companies

Description: Order No. 890 OATT Attachment K-Transmission Planning Process of Sierra Pacific Resources Operating Companies.

Filed Date: 12/07/2007.

Accession Number: 20071207-5089.

Comment Date: 5 p.m. Eastern Time on Friday, December 28, 2007.

Docket Numbers: OA08-39-000.

Applicants: American Electric Power Service Corp.

Description: Order No. 890 OATT Transmission Planning Principles Compliance Filing of American Electric Power Service Corp.

Filed Date: 12/07/2007.

Accession Number: 20071207-5090.

Comment Date: 5 p.m. Eastern Time on Friday, December 28, 2007.

Docket Numbers: OA08-40-000.

Applicants: PacifiCorp.

Description: Order No. 890 OATT Revised Attachment K Compliance Filing of PacifiCorp.

Filed Date: 12/07/2007.

Accession Number: 20071207-5107.

Comment Date: 5 p.m. Eastern Time on Friday, December 28, 2007.

Docket Numbers: OA08-41-000.

Applicants: MidAmerican Energy Company.

Description: MidAmerican Energy Company FPA section 206 Compliance Filing Transmission Planning Process.

Filed Date: 12/07/2007.

Accession Number: 20071207-5109.

Comment Date: 5 p.m. Eastern Time on Friday, December 28, 2007.

Docket Numbers: OA08-43-000.

Applicants: Powder River Energy Corp; Black Hills Power, Inc.; Basin Electric Power Cooperative, Inc.

Description: Black Hills Power, Inc., Basin Electric Power Cooperative, and Powder River Energy Corporation Order No. 890 Attachment K Compliance Filing.

Filed Date: 12/07/2007.

Accession Number: 20071207-5116.

Comment Date: 5 p.m. Eastern Time on Friday, December 28, 2007.

Docket Numbers: OA08-44-000.

Applicants: Oklahoma Gas and Electric Company.

Description: Order No. 890 Attachment K Compliance Filing of Oklahoma Gas and Electric Co.

Filed Date: 12/07/2007.

Accession Number: 20071207-5117.

Comment Date: 5 p.m. Eastern Time on Friday, December 28, 2007.

Docket Numbers: OA08-45-000.

Applicants: Portland General Electric Company.

Description: Order No. 890 OATT of Portland General Electric Company.

Filed Date: 12/07/2007.

Accession Number: 20071207-5122.

Comment Date: 5 p.m. Eastern Time on Friday, December 28, 2007.

Docket Numbers: OA08-46-000.

Applicants: South Carolina Electric & Gas Company.

Description: Attachment K filing to Order No. 890 OATT of South Carolina Electric & Gas Company.

Filed Date: 12/07/2007.

Accession Number: 20071207-5127.

Comment Date: 5 p.m. Eastern Time on Friday, December 28, 2007.

Docket Numbers: OA08-47-000; OA08-48-000.

Applicants: Tucson Electric Power Company; UNS Electric, Inc.

Description: Order No. 890 OATT of Tucson Electric Power Company and UNS Electric, Inc.

Filed Date: 12/07/2007.

Accession Number: 20071207-5126.

Comment Date: 5 p.m. Eastern Time on Friday, December 28, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis Sr.,
Deputy Secretary.

[FR Doc. E7-24592 Filed 12-18-07; 8:45 am]

BILLING CODE 6717-01-P